DEPARTMENT OF LABOR

Employment and Training Administration

[TA-W-82,371]

T-Mobile Usa, Inc., Core Fault Isolation Team, Engineering Division, Bethlehem, Pennsylvania; Notice of Affirmative Determination Regarding Application for Reconsideration

By application received on May 1, 2013, three workers requested administrative reconsideration of the negative determination regarding workers' eligibility to apply for Trade Adjustment Assistance (TAA) applicable to workers and former workers of T-Mobile USA, Inc., Core Fault Isolation Team, Engineering Division, Bethlehem, Pennsylvania (subject firm). The determination was issued on March 15, 2013 and the Department's Notice of determination was published in the Federal Register on April 1, 2013 (78 FR 19533).

The negative determination is based on the Department's findings that the subject firm did not shift the provision of services for a foreign country; during the relevant period, imports of services like or directly competitive with those provided by the subject firm did not increase; the subject firm was neither a Supplier nor Downstream Producer to a firm (or subdivision, whichever is applicable) that employed a group of workers who received a certification of eligibility under Section 222(a) of the Act, 19 U.S.C. 2272(a); and the subject firm has not been publically identified by name by the International Trade Commission as a member of a domestic industry in an investigation resulting in an affirmative finding of serious injury, market disruption, or material injury, or threat thereof.

The request for reconsideration alleges that the subject firm is a downstream producer to a firm who employed worker groups eligible to apply for TAA under TA-W-81,520 and TA-W-81,520G; and the worker separations are due to the shift in the supply of services to another country.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 8th day of May, 2013.
Del Min Amy Chen,
Certifying Officer, Office of Trade Adjustment Assistance.

[FR Doc. 2013-12381 Filed 5-23-13; 8:45 am]

BILLING CODE 4510-FN-P